DEPARTMENT OF THE TREASURY

Internal Revenue Service

26 CFR Part 1

[REG-128767-04]

RIN 1545-BD48

Treatment of Disregarded Entities Under Section 752; Hearing Cancellation

AGENCY: Internal Revenue Service (IRS), Treasury.

ACTION: Cancellation of notice of public hearing on proposed rulemaking.

SUMMARY: This document provides cancellation of a public hearing for proposed regulations that provide rules under section 752 for taking into account certain obligations of a business entity that is disregarded as separate from its owner under section 856(i), 1361(b)(3), or §§ 301.7701-1 through 301.7701-3 (disregarded entity) for purposes of characterizing and allocating partnership liabilities.

DATES: The public hearing originally scheduled for January 14, 2005, at 10 a.m., is cancelled.

FOR FURTHER INFORMATION CONTACT: Robin R. Jones of the Publications and Regulations Branch, Legal Processing Division at (202) 622-7180 (not a toll-free number).

SUPPLEMENTARY INFORMATION: A notice of proposed rulemaking appeared in the Federal Register on Thursday, August 12, 2004 (69 FR 49832). The notice of public hearing appeared in the Federal Register on Tuesday, November 30, 2004 (69 FR 69557) announcing that a public hearing was scheduled for January 14, 2005, at 10 a.m., in the auditorium. The subject of the public hearing is proposed regulations under section 752 of the Internal Revenue Code. The public comment period for these regulations expired on November 10, 2004. Outlines of oral comments were due on December 24, 2004.

The notice of public hearing, instructed those interested in testifying at the public hearing to submit an outline of the topics to be addressed. As of Tuesday, January 4, 2005, no one has requested to speak. Therefore, the public hearing scheduled for January 14, 2005, is cancelled.

Cynthia E. Grigsby,
Acting Chief, Publications and Regulations Branch, Legal Processing Division, Associate Chief Counsel (Procedure and Administration).

[FR Doc. 05-393 Filed 1-4-05; 4:19 pm]

BILLING CODE 4830-01-U